MORRIS K. UDALL SCHOLARSHIP AND EXCELLENCE IN NATIONAL ENVIRONMENTAL POLICY FOUNDATION

Sunshine Act Meeting

Time and Date: 9 a.m. to 12 p.m., Friday, April 12, 2002.

Place: The offices of the Morris K. Udall Scholarship and Excellence in National Environment Policy Foundation, 110 South Church Avenue, Suite 3350, Tucson, AZ 85701.

Status: This meeting will be open to the public, unless it is necessary for the Board to consider items in executive session.

Matters To Be Considered: (1) A report on the U.S. Institute for Environmental Conflict Resolution; (2) a report from the Udall Center for Studies in Public Policy; (3) a report on the Native Nations Institute; (4) Program Reports; (5) a report on the Udall Archives; and (6) a report from the Management Committee.

Portions Open to the Public: All sessions with the exception of the session listed below.

Portions Closed to the Public: Executive session.

Contact Person for More Information: Christopher L. Helms, Executive Director, 110 South Church Avenue. Suite 3350, Tucson, AZ 85701, (520) 760-5529.

Dated: March 28, 2002.
Christopher L. Helms,
Executive Director, Morris K. Udall Scholarship and Excellence in National Environmental Policy Foundation, and Federal Register Liaison Officer.

[FR Doc. 02-8107 Filed 3-39-02; 3:53 pm]

BILLING CODE 6820-FN-M